DEPARTMENT OF ENERGY

Federal Energy Regulatory Commission

[Docket No. CP17-495-000; Docket No. CP17-494-000]

Jordan Cove Energy Project LP, Pacific Connector Gas Pipeline L.P.; Notice of Dates and Locations for Public Comment Sessions on the Jordan Cove Energy Project Draft Environmental Impact Statement

The staff of the Federal Energy Regulatory Commission (FERC or Commission) will be present to receive comments on the draft Environmental Impact Statement for the Jordan Cove Energy Project as follows:

Date and time (PDT) | Location
June 24, 2019; 1:00-8:00 p.m | Southwestern Oregon Community College, Hale Center for the Performing Arts, 1988 Newmark Avenue, Coos Bay, OR 97420.
June 25, 2019; 1:00-8:00 p.m | South Umpqua High School, 501 Chadwick Lane, Myrtle Creek, OR 97457.
June 26, 2019; 1:00-8:00 p.m | Ramada Medford Hotel and Conference Center, 2250 Biddle Road, Medford, OR 97504.
June 27, 2019; 1:00-8:00 p.m | Klamath County Fairgrounds/Event Center, 3531 South 6th Street, Klamath Falls, OR 97603.

Please do not contact these venues directly with questions. Any questions regarding the public comment sessions should be directed to the FERC at: (866) 208-3372.

The public's review of a draft Environmental Impact Statement is an important part of the Commission's environmental review process. Although not required, the Commission is holding these public comment sessions, so that interested parties can provide their specific comments on the analyses and findings of the draft Environmental Impact Statement for the Jordan Cove Energy Project (draft EIS), which was issued on March 29, 2019. These comment sessions have been purposefully designed to efficiently and effectively allow for the greatest number of individuals to provide comments on the draft EIS.

Recognizing significant public interest for this project and in anticipation of a large turnout, FERC staff has chosen to allot more time for the public comment sessions than is typical. As described in the table above, the public comment sessions will be held between 1:00 and 8:00 p.m. You may arrive at any time after 1:00 p.m. Individuals arriving before 1:00 p.m. will not be permitted in the venue and should expect to wait. Between 4:00 and 5:00 p.m. there will be a comment session break with reduced staffing levels, so please plan accordingly. If you arrive between 4:00 and 5:00 you will not be turned away, but you may encounter a wait time longer than expected. Commission staff anticipates higher attendance between 5:00 and 7:00 p.m.; therefore, please consider coming earlier to avoid waiting. The comment sessions will conclude at 8:00 p.m.

There will be no formal presentations by Commission staff; however, staff will be present to answer general questions about the FERC and the environmental review process. Other federal agency representatives will be in attendance and available to answer questions about their respective roles and reviews.

If you wish to provide verbal comments, Commission staff will issue you a number upon arrival. Elected officials are exempted from the number process and will be afforded priority; otherwise, numbers will be called in the order issued. A waiting area will be provided, but please monitor the numbers being called, so that you do not miss your opportunity to comment. Once your number is called, you will be directed to a Commission staff team member and a court reporter who will transcribe your comments. Comments will be taken in a one-on-one setting. Due to the anticipated large turnout, a time limit of 3 minutes per commenter will be implemented. Depending on the number of people waiting, this time limit may be extended 1-2 minutes. To reduce potential wait times, there will be four court reporters at each session to receive comments. In order for the session to end on time, Commission staff will monitor and evaluate attendance, and may stop issuing numbers prior to 8:00 p.m.

All comments received will become part of the public record for these proceedings. Transcripts will be publicly available via FERC's eLibrary. It is important to note that electronic and written comments submitted to the Commission hold the same weight as verbal comments. Therefore, you do not need to attend a session in order for your comments to be considered.

As a reminder, electronic and written comments can be submitted in the following manner:

(1) You can file your comments electronically using the eComment feature on the Commission's website (www.ferc.gov) under the link to Documents and Filings. This is an easy method for submitting brief, text-only comments on a project;

(2) You can file your comments electronically by using the eFiling feature on the Commission's website (www.ferc.gov) under the link to Documents and Filings. With eFiling, you can provide comments in a variety of formats by attaching them as a file with your submission. New eFiling users must first create an account by clicking on “eRegister.” If you are filing a comment on a particular project, please select “Comment on a Filing” as the filing type; or

(3) You can file a paper copy of your comments by mailing them to the following address. Be sure to reference the project docket numbers (CP17-494-000 and CP17-495-00) with your submission: Kimberly D. Bose, Secretary, Federal Energy Regulatory Commission, 888 First Street NE, Room 1A, Washington, DC 20426.

Protests, disruptions, and other distractions will be evaluated by Commission staff on a case-by-case basis. Should an activity significantly disrupt the session or result in an unsafe or unwelcoming environment, staff may choose to end the session for a set time or entirely. Please see appendix 1 for additional information on the session format and conduct.¹

¹ The appendices referenced in this notice will not appear in the Federal Register. Copies of the appendices were sent to all those receiving this notice in the mail and are available at www.ferc.gov using the link called “eLibrary” or from the Commission's Public Reference Room, 888 First Street NE, Washington, DC 20426, or call (202) 502-8371.

Dated: June 4, 2019.
Kimberly D. Bose,
Secretary.

[FR Doc. 2019-12200 Filed 6-10-19; 8:45 am]

BILLING CODE 6717-01-P